DEPARTMENT OF LABOR

Employment and Training Administration

[TA-W-64,489]

Wyeth Pharmaceuticals, a Subsidiary of Wyeth, Currently Known as Pfizer, Rouses Point, NY; Amended Certification Regarding Eligibility To Apply for Worker Adjustment Assistance and Alternative Trade Adjustment Assistance

In accordance with Section 223 of the Trade Act of 1974 (19 U.S.C. 2273), as amended, the Department of Labor issued a Certification of Eligibility to Apply for Worker Adjustment Assistance and Alternative Trade Adjustment Assistance on December 11, 2008, applicable to workers of Wyeth Pharmaceuticals, a subsidiary of Wyeth, Rouses Point, New York. The notice was published in the Federal Register December 30, 2008 (73 FR 79914).

At the request of the state agency, the Department reviewed the certification for workers of the subject firm. The workers are engaged in activities related to the production of various pharmaceutical products such as Rapaume Liquid, Effexor, Premarin IV, Premarin, Prempro, Premarin Vaginal Cream, CEDL, and CEC.

New information shows that some workers separated from employment at the subject firm had their wages reported under a separate unemployment insurance (UI) tax account for Pfizer.

Accordingly, the Department is amending the certification to properly reflect this matter.

The intent of the Department's certification is to include all workers of Wyeth Pharmaceuticals, a subsidiary of Wyeth, currently known as Pfizer, who were adversely affected by a shift in plant production of various pharmaceutical products to Canada.

The amended notice applicable to TA-W-64,489 is hereby issued as follows:

All workers of Wyeth Pharmaceuticals, a subsidiary of Wyeth, currently known as Pfizer, Rouses Point, New York, who become totally or partially separated from employment on or after November 19, 2007, through December 11, 2010, are eligible to apply for adjustment assistance under Section 223 of the Trade Act of 1974, and are also eligible to apply for alternative trade adjustment assistance under Section 246 of the Trade Act of 1974.

Signed in Washington, DC, this 24th day of November 2009.
Elliott S. Kushner,
Certifying Officer, Division of Trade Adjustment Assistance.

[FR Doc. E9-29509 Filed 12-10-09; 8:45 am]

BILLING CODE 4510-FN-P